DEPARTMENT OF JUSTICE

Notice of Lodging of Consent Decree Under the Clean Air Act

On July 18, 2016, the Department of Justice lodged a proposed Consent Decree with the United States District Court for the Western District of Texas in United States, et al. v Tesoro Refining & Marketing Co. LLC et al. Civil Action No. SA-16-cv-00722.

The Consent Decree settles claims brought by the United States, states of Alaska and Hawaii, and the Northwest Clean Air Agency against Tesoro Refining & Marketing Co. LLC, Tesoro Alaska Co. LLC, Tesoro Logistics L.P., and Par Hawaii Refining, LLC for violations of the Clean Air Act, federal regulations promulgated thereunder, and various state regulations and permits at six petroleum refineries located in Kenai, Alaska; Martinez, California; Kapolei, Hawaii; Mandan, North Dakota; Salt Lake City, Utah; and Anacortes, Washington. Under the Consent Decree, Defendants will undertake extensive measures to correct the alleged violations, pay a civil penalty of $10,450 to the United States and state co-plaintiffs, and perform three projects to mitigate excess emissions associated with the violations.

The publication of this notice opens a period for public comment on the proposed Consent Decree. Comments should be addressed to the Assistant Attorney General, Environment and Natural Resources Division, and should refer to United States et al. v. Tesoro Refining & Marketing Co. LLC et al., D.J. Ref. No. 90-5-2-1-09512/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $59.75 (25 cents per page reproduction cost) payable to the United States Treasury.

Jeffrey Sands,
Assistant Section Chief, Environmental Enforcement Section, Environment and Natural Resources Division.

[FR Doc. 2016-17393 Filed 7-21-16; 8:45 am]

BILLING CODE 4410-15-P